DEPARTMENT OF HEALTH AND HUMAN SERVICES

45 CFR Part 153

[CMS-9957-F3; CMS-9964-F4]

RIN 0938-AR82; RIN 0938-AR74

Patient Protection and Affordable Care Act; Program Integrity: Exchange, Premium Stabilization Programs, and Market Standards; Amendments to the HHS Notice of Benefit and Payment Parameters for 2014; Correcting Amendment

AGENCY: Centers for Medicare & Medicaid Services (CMS), HHS.

ACTION: Final rule; correcting amendment.

SUMMARY: In the October 30, 2013 issue of the Federal Register (78 FR 65046), we published a final rule entitled, “Program Integrity: Exchange, Premium Stabilization Programs, and Market Standards; Amendments to the HHS Notice of Benefit and Payment Parameters for 2014.” The effective date was December 30, 2013. This correcting amendment corrects technical and typographical errors identified in the October 30, 2013 final rule.

DATES: This correcting amendment is effective July 2, 2014.

FOR FURTHER INFORMATION CONTACT: Jaya Ghildiyal, (301) 492-5149.

SUPPLEMENTARY INFORMATION:

I. Background

In FR Doc 2013-25326 (78 FR 65046) the final rule entitled, “Program Integrity: Exchange, Premium Stabilization Programs, and Market Standards; Amendments to the HHS Notice of Benefit and Payment Parameters for 2014,” there were technical errors that are identified and corrected in the regulations text of this correcting amendment. The provisions of this correcting amendment are effective July 2, 2014.

II. Summary of Errors in the Regulations Text

On page 65094 of the October 30, 2013 Federal Register final rule, in the amendatory instructions for 45 CFR 153.530, we stated that we were amending paragraphs (b) and (c). However, we revised § 153.530(b) incorrectly. The language in paragraphs (b)(1)(i) and (b)(1)(ii) was inserted inadvertently, and duplicates the language that is correctly included in paragraphs (b)(2)(i) and (ii). Therefore, we are deleting § 153.530 (b)(1)(i) and (b)(1)(ii). We note that we are not making any other changes to § 153.530.

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

This document merely corrects technical errors related to one provision in the Program Integrity: Exchange, Premium Stabilization Programs, and Market Standards; Amendments to the HHS Notice of Benefit and Payment Parameters for 2014 final rule that was published on October 30, 2013 and became effective on December 30, 2013. The changes are not substantive changes to the standards set forth in the final rule. Therefore, we believe that undertaking further notice and comment procedures to incorporate these corrections and delay the effective date for these changes is unnecessary. In addition, we believe it is important for the public to have the correct information as soon as possible, and believe it is contrary to the public interest to delay when they become effective. For the reasons stated previously, we find there is good cause to waive notice and comment procedures and the 30-day delay in the effective date for this correction notice.

List of Subjects in 45 CFR Part 153

Administrative practice and procedure, Adverse selection, Health care, Health insurance, Health records, Organization and functions (Government agencies), Premium stabilization, Reporting and recordkeeping requirements, Reinsurance, Risk adjustment, Risk corridors, Risk mitigation, State and local governments.

Accordingly, the Department of Health and Human Services is making the following correcting amendment to 45 CFR part 153.

PART 153—STANDARDS RELATED TO REINSURANCE, RISK CORRIDORS, AND RISK ADJUSTMENT UNDER THE AFFORDABLE CARE ACT

1. The authority citation for part 153 continues to read as follows:

Authority: Secs. 1311, 1321, 1341-1343, Pub. L. 111-148, 24 Stat. 119.

§ 153.530 [Corrected]

2. In § 153.530, remove paragraphs (b)(1)(i) and (b)(1)(ii).

Dated: June 25, 2014.
C'Reda Weeden,
Executive Secretary to the Department, Department of Health and Human Services.

[FR Doc. 2014-15560 Filed 7-1-14; 8:45 am]

BILLING CODE 4120-01-P